DEPARTMENT OF THE INTERIOR

National Park Service

[NPS-WASO-NRNHL-19403; PPWOCRADI0, PCU00RP14.R50000]

National Register of Historic Places; Notification of Pending Nominations and Related Actions

AGENCY: National Park Service, Interior.

ACTION: Notice.

SUMMARY: The National Park Service is soliciting comments on the significance of properties nominated before September 19, 2015 for listing or related actions in the National Register of Historic Places.

DATES: Comments should be submitted by October 29, 2015.

ADDRESSES: Comments may be sent via U.S. Postal Service the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before September 19, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

HAWAII

Hawaii County

Ferreira Building, (Honakaa Town, Hawaii MPS), 45-3625 Mamane St., Honokaa, 15000756

IOWA

Linn County

Cedar Rapids Central Business District Commercial Historic District, (Commercial & Industrial Development of Cedar Rapids MPS), Roughly bounded by 1st & 5th Aves. SE. & 5th & 2nd Sts. SE., Cedar Rapids, 15000757

Harper and McIntire Company Warehouse, (Industrial Development of Cedar Rapids, Iowa MPS (AD)), 411 6th Ave. SE., Cedar Rapids, 15000758

MARYLAND

Queen Anne's County

Wye Hall, 505 Wye Hall Dr., Queenstown, 15000759

MISSOURI

Jackson County

Ten Main Center, 920 Main St., Kansas City, 15000760

St. Louis Independent city

Green, Philip and Louisa, House, 4171 W. Belle Place, St. Louis (Independent City), 15000761

NEW JERSEY

Atlantic County

Tofani—DiMuzio House, 12 S. Cambridge Ave., Ventnor, 15000762

Cumberland County

Maurice River Lighthouse and East Point Archeological District (Boundary Increase), Address Restricted, Maurice River, 15000763

SOUTH DAKOTA

Meade County

McMillan, John and Elsie, House, 1611 Davenport, Sturgis, 15000765

VIRGINIA

Accomack County

Assateague Beach Coast Guard Station, (U.S. Government Lifesaving Stations MPS) Beach Rd., Chincoteague, 15000766

Authority: 60.13 of 36 CFR part 60

Dated: September 22, 2015.
Roger Reed,
Acting Chief, National Register of Historic Places/National Historic Landmarks Program.

[FR Doc. 2015-26036 Filed 10-13-15; 8:45 am]

BILLING CODE 4312-51-P